DEPARTMENT OF HOMELAND SECURITY

[Docket No. DHS-2009-0100]

The National Infrastructure Advisory Council

AGENCY: National Protection and Programs Directorate, DHS.

ACTION: Committee Management; Notice of Federal Advisory Council Meeting.

SUMMARY: The National Infrastructure Advisory Council (NIAC) will meet on Tuesday, September 8, 2009, at the J.W. Marriott's Salons I and II, 1331 Pennsylvania Avenue, Washington, DC 20004.

DATES: The NIAC will meet Tuesday, September 8, 2009, from 1:30 p.m. to 4:30 p.m. Please note that the meeting may close early if the committee has completed its business. For additional information, please consult the NIAC Web site, http://www.dhs.gov/niac, or contact Matthew Sickbert by phone at 703-235-2888 or by e-mail at Matthew.Sickbert@associates.dhs.gov.

ADDRESSES: The meeting will be held at the J.W. Marriott's Salon I and II, 1331 Pennsylvania Avenue, Washington, DC 20004. While we will be unable to accommodate oral comments from the public, written comments may be sent to Nancy J. Wong, Department of Homeland Security, National Protection and Programs Directorate, Washington, DC 20528. Written comments should reach the contact person listed no later than September 1, 2009. Comments must be identified by Docket No. DHS-2009-0100 and may be submitted by one of the following methods:

Federal eRulemaking Portal: http://www.regulations.gov. Follow the instructions for submitting comments.

E-mail: matthew.sickbert@associates.dhs.gov. Include the docket number in the subject line of the message.

Fax: 703-235-3055.

Mail: Nancy J. Wong, Department of Homeland Security, National Protection and Programs Directorate, Washington, DC 20528.

Instructions: All submissions received must include the words “Department of Homeland Security” and the docket number for this action. Comments received will be posted without alteration at http://www.regulations.gov, including any personal information provided.

Docket: For access to the docket to read background documents or comments received by the NIAC, go to http://www.regulations.gov.

FOR FURTHER INFORMATION CONTACT: Nancy J. Wong, NIAC Designated Federal Officer, Department of Homeland Security, Washington, DC 20528; telephone 703-235-2888.

SUPPLEMENTARY INFORMATION: Notice of this meeting is given under the Federal Advisory Committee Act, 5 U.S.C. App. (Pub. L. 92-463). The NIAC shall provide the President through the Secretary of Homeland Security with advice on the security of the critical infrastructure sectors and their information systems.

The NIAC will meet to address issues relevant to the protection of critical infrastructure as directed by the President. The September 8, 2009, meeting will include the final report from the Critical Infrastructure Resilience Working Group.

The meeting agenda is as follows:

I. Opening of Meeting

II. Roll Call of Members

III. Opening Remarks and Introductions

IV. Approval of July 2009 Minutes

V. Working Group Final Presentation and Deliberation of Final Report

a. The Critical Infrastructure Resilience Working Group

VI. Continuing Business

VII. Closing Remarks

VIII. Adjournment

Procedural

While this meeting is open to the public, participation in the NIAC deliberations is limited to committee members, Department of Homeland Security officials, and persons invited to attend the meeting for special presentations.

Information on Services for Individuals With Disabilities

For information on facilities or services for individuals with disabilities or to request special assistance at the meeting, contact the NIAC Secretariat at 703-235-2888 as soon as possible.

Signed: August 11, 2009.
Nancy J. Wong,
Designated Federal Officer, National Infrastructure Advisory Council.

[FR Doc. E9-20079 Filed 8-20-09; 8:45 am]

BILLING CODE 9110-9P-P